DEPARTMENT OF LABOR

Office of the Secretary

Submission for OMB Review; Comment Request

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number) and e-mail mail to: DOL_PRA_PUBLIC@dol.gov.

Interested parties are encouraged to send comments to the Office of Information and Regulatory Affairs, Attn: OMB Desk Officer for the Department of Labor—Employment and Training Administration, Room 10235, Washington, DC 20503, Telephone: 202-395-7316/Fax 202-395-5806 (these are not toll-free numbers), e-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Employment and Training Administration.

Type of Review: Extension of a currently approved information collection.

Title of Collection: Quick Turnaround Surveys of the Workforce Investment Act.

OMB Control Number: 1205-0436.

Frequency: On occasion.

Affected Public: State and local workforce agencies and workforce investment boards, and WIA partner program agencies at the state and local levels.

Cost to Federal Government: $0.

Estimated Number of Respondents: From 54 to 250 respondents per survey, for up to 20 surveys.

Total Number of Responses: From 54 to 250 responses per survey, for up to 20 surveys.

Total Burden Hours: From 72 to 7,500 per survey.

Total Hour Burden Cost (Operating/Maintaining): $0.

Description: ETA, in its role of providing broad program oversight and policy development, needs accurate, timely information on how services and systems under WIA are unfolding and on the challenges and successes states and local areas encounter. Only in this way can it properly discharge its obligations to issue policy clarifications, regulations and technical assistance. This need is particularly acute given that the workforce development system has been evolving rapidly in the several years since WIA was enacted. It is expected that WIA will continue to change rapidly, as Congress is currently considering its reauthorization, with multiple potential changes. However, much of the information available to ETA on key operational issues is impressionistic or anecdotal in nature, based on hearsay or unsystematic observations, and not accurate as to the incidence or scope nationally. When accurate nationwide information is available, as from long-term in-depth evaluation studies, it is often not timely. Thus ETA has a need for accurate and timely information that can be found only with systematic quick turnaround studies. For additional information, see related notice published in the Federal Register on March 30, 2010, (Vol. 75 page 15726).

Dated: August 11, 2010.
Linda Watts Thomas,
Acting Departmental Clearance Officer.

[FR Doc. 2010-21077 Filed 8-24-10; 8:45 am]

BILLING CODE 4510-FN-P